SMALL BUSINESS ADMINISTRATION

[Disaster Declaration #15943; North Carolina Disaster Number NC-00109 Declaration of Economic Injury]

Administrative Declaration of an Economic Injury Disaster for the State of North Carolina

AGENCY: U.S. Small Business Administration.

ACTION: Notice.

SUMMARY: This is a notice of an Economic Injury Disaster Loan (EIDL) declaration for the State of North Carolina, dated 04/30/2019.

Incident: Gas Leak Explosion.

Incident Period: 04/10/2019.

DATES: Issued on 04/30/2019.

Economic Injury (EIDL) Loan Application Deadline Date: 01/30/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's EIDL declaration, applications for economic injury disaster loans may be filed at the address listed above or other locally announced locations.

The following areas have been determined to be adversely affected by the disaster:

Primary Counties: Durham.

Contiguous Counties:

North Carolina: Chatham, Granville, Orange, Person, Wake.

The Interest Rates are:

| Percent
Businesses and Small Agricultural Cooperatives Without Credit Available Elsewhere | 4.000
Non-Profit Organizations without Credit Available Elsewhere | 2.750

The number assigned to this disaster for economic injury is 159430.

The State which received an EIDL Declaration # is North Carolina.

(Catalog of Federal Domestic Assistance Number 59008)

Dated: April 30, 2019.
Christopher M. Pilkerton,
Acting Administrator.

[FR Doc. 2019-09683 Filed 5-9-19; 8:45 am]

BILLING CODE 8025-01-P